CONSUMER PRODUCT SAFETY COMMISSION

Notice of LG Electronics Tianjin Appliance Co., Ltd. and LG Electronics USA Inc., Provisional Acceptance of a Settlement Agreement and Order, CPSC Docket No. 15-C0005; Correction

AGENCY: Consumer Product Safety Commission.

ACTION: Notice; correction.

SUMMARY: The Consumer Product Safety Commission published a document in the Federal Register of July 24, 2015, concerning the provisional acceptance of a Settlement Agreement and Order, CPSC Docket No. 15-C0005, for LG Electronics Tianjin Appliance Co., Ltd. and LG Electronics USA Inc. A footnote was omitted from the SUMMARY paragraph of the document.

FOR FURTHER INFORMATION CONTACT: Todd A. Stevenson, Office of the Secretary, 4330 East West Highway, Bethesda, MD 20814 (301) 504-7923.

Correction

In the Federal Register/Vol. 80, No. 142/July 24, 2015, in FR Doc. 2015-18150, on page 44081, in the first column, correct the SUMMARY paragraph to include the footnote:

¹ The Commission voted (4-1) to provisionally accept this Settlement Agreement and Order, regarding LG Electronics (Tianjin) Appliance Co., Ltd. and LG Electronics USA. Chairman Elliot F. Kaye, Commissioner Robert S. Adler, Commissioner Marietta S. Robinson and Commissioner Joseph P. Mohorovic voted to provisionally accept the Settlement Agreement and Order. Commissioner Ann Marie Buerkle voted to reject the Settlement Agreement and Order.

Dated: July 24, 2015.
Todd A. Stevenson,
Secretary.

[FR Doc. 2015-18575 Filed 7-28-15; 8:45 am]

BILLING CODE 6355-01-P